ENVIRONMENTAL PROTECTION AGENCY

40 CFR Part 180

[EPA-HQ-OPP-2002-0043; FRL-8403-8]

Pesticide Tolerance Nomenclature Changes; Proposed Technical Amendment

AGENCY: Environmental Protection Agency (EPA).

ACTION: Proposed rule.

SUMMARY: This document proposes minor revisions to the terminology of certain commodity terms listed under 40 CFR part 180, subpart C. EPA is proposing this action to establish a uniform listing of commodity terms.

DATES: Comments, identified by docket identification (ID) number EPA-HQ-OPP-2002-0043, must be received on or before July 28, 2009.

ADDRESSES: Submit your comments, identified by docket ID number EPA-HQ-OPP-2002-0043, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Building), 2777 S. Crystal Dr., Arlington, VA. Deliveries are only accepted during the Docket's normal hours of operation (8:30 a.m. to 4 p.m., Monday through Friday, excluding legal holidays). Special arrangements should be made for deliveries of boxed information. The Docket telephone number is (703) 305-5805.

Instructions: Direct your comments to docket ID number EPA-HQ-OPP-2002-0043. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov web site to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Building), 2777 S. Crystal Drive, Arlington, VA. The hours of operation of this Docket Facility are from 8:30 a.m. to 4 p.m., Monday through Friday, excluding legal holidays. The Docket Facility telephone number is (703) 305-5805.

FOR FURTHER INFORMATION CONTACT: Stephen Schaible, Registration Division (7505C), Office of Pesticide Programs, Environmental Protection Agency, 1200 Pennsylvania Ave., NW., Washington, DC 20460-0001; telephone number: (703) 308-9362; e-mail address: schaible.stephen@epa.gov.

SUPPLEMENTARY INFORMATION:

I. General Information

A. Does This Action Apply to Me?

You may be potentially affected by this action if you are an agricultural producer, food manufacturer, or pesticide manufacturer. Potentially affected entities may include, but are not limited to:

• Crop production (NAICS 111).

• Animal production (NAICS 112).

• Food manufacturer (NAICS 311).

• Pesticide manufacturer (NAICS 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. What Should I Consider as I Prepare My Comments for EPA?

1. Docket. EPA has established a docket for this action under docket identification (ID) number EPA-HQ-OPP-2006-0043. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

EPA's Office of Pesticide Programs (OPP) has developed a commodity vocabulary database entitled Food and Feed Commodity Vocabulary. The database was developed to consolidate all the major OPP commodity vocabularies into one standardized vocabulary. As a result, all future pesticide tolerances issued under 40 CFR part 180 will use the “preferred commodity term” as listed in the aforementioned database. This is the nineth in a series of documents revising the terminology of commodity terms listed under 40 CFR part 180. Eight final rules, revising pesticide tolerance nomenclature, have published in the Federal Register: June 19, 2002 (67 FR 41802) (FRL-6835-2); June 21, 2002 (67 FR 42392) (FRL-7180-1); July 1, 2003 (68 FR 39428) (FRL-7308-9) and (68 FR 39435) (FRL-7316-9); December 13, 2006 (71 FR 74802) (FRL-8064-3); September 18, 2007 (72 FR 53134) (FRL-8126-5) (corrected on October 31, 2007 (72 FR 61535) (FRL-8151-4); and October 10, 2008 (73 FR 60151) (FRL-8376-1). This revision process will establish a uniform presentation of existing commodity terms under 40 CFR part 180. Refer to the unit entitled Background in the nine documents listed above for descriptions of the commodity term revisions.

III. Statutory and Exective Order Reviews

This document proposes technical amendments to the Code of Federal Regulations which have no substantive impact on the underlying regulations, and it does not otherwise impose or amend any requirements. As such, the Office of Management and Budget (OMB) has determined that a technical amendment is not a “significant regulatory action” subject to review by OMB under Executive Order 12866, entitled Regulatory Planning and Review (58 FR 51735, October 4, 1993). Because this proposed rule has been exempted from review under Executive Order 12866 due to its lack of significance, this proposed rule is not subject to Executive Order 13211, Actions Concerning Regulations That Significantly Affect Energy Supply, Distribution, or Use (66 FR 28355, May 22, 2001). This proposed rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations under Executive Order 12898, entitled Federal Actions to Address Environmental Justice in Minority Populations and Low-Income Populations (59 FR 7629, February 16, 1994); or OMB review or any Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). The Regulatory Flexibility Act (RFA) (5 U.S.C. 601 et seq.) generally requires an agency to prepare a regulatory flexibility analysis of any rule subject to notice and comment rulemaking requirements under the Administrative Procedure Act or any other statute unless the agency certifies that the rule will not have a significant impact on a substantial number of small entities. Small entities include small businesses, small organizations, and small governmental organizations. After considering the economic impacts of today's proposed rule on small entities, I certify that this action will not have a significant economic impact on a substantial number of small entities. This action proposes technical amendments to the Code of Federal Regulations which have no substantive impact on the underyling regulations. This technical amendment will not have any negative economic impact on any entities, including small entities. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This proposed rule directly regulates growers, food processors, food handlers and food retailers, not States. This action does not alter the relationships or distribution of power and responsibilities established by Congress in the preemption provisions of section 408(n)(4) of the FFDCA. For these same reasons, the Agency has determined that this proposed rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive Order to include regulations that have “substantial direct effects on one or more Indian tribes, on the relationship between the Federal Government and the Indian tribes, or on the distribution of power and responsibilities between the Federal Government and Indian tribes.” This proposed rule will not have substantial direct effects on tribal governments, on the relationship between the Federal Government and Indian tribes, or on the distribution of power and responsibilities between the Federal Government and Indian tribes, as specified in Executive Order 13175. Thus, Executive Order 13175 does not apply to this proposed rule.

List of Subjects in 40 CFR Part 180

Environmental protection, Administrative practice and procedure, Agricultural commodities, Pesticides and pests, Reporting and recordkeeping requirements.

Dated: March 19, 2009.
Debra Edwards,
Director, Office of Pesticide Programs.

Therefore, it is proposed that 40 CFR chapter I be amended as follows:

PART 180—[AMENDED]

1. The authority citation for part 180 continues to read as follows:

Authority: 21 U.S.C. 321(q), 346(a) and 371.

2. Section 180.110 is amended by removing the entry for “Cabbage, chinese,” and adding alphabetically the following entries to the table in paragraph (a) to read as follows:

§ 180.110 Maneb; tolerances for residues.

(a) * * *

Commodity | Parts per million | Expiration/Revocation Date
* * * * *
Cabbage, Chinese, bok choy | 10 | None
Cabbage, Chinese, napa | 10 | None
* * * * *

* * * * *

3. Section 180.111 is amended by removing the entries for “Alfalfa,” “Bean,” “Beet (including tops),” “Clover,” “Corn, forage,” “Corn, grain, postharvest,” “Onion (including green onion),” “Salsify (including tops),” “Soybean (dry and succulent),” “Squash, summer and winter,” and “Turnip (including tops)” and alphabetically adding the following commodities to the table in paragraph (a)(1) to read as follows:

§ 180.111 Malathion; tolerances for residues.

(a) General. (1) * * *

Commodity | Parts per million
Alfalfa, forage | 135
Alfalfa, hay | 135
* * * * *
Bean, dry seed | 8
Bean, succulent | 8
Beet, garden, roots | 8
Beet, garden, tops | 8
* * * * *
Clover, forage | 135
Clover, hay | 135
* * * * *
Corn, field, forage | 8
Corn, field, grain, postharvest | 8
* * * * *
Corn, pop, grain, postharvest | 8
Corn, sweet, forage | 8
* * * * *
Onion, bulb | 8
Onion, green | 8
* * * * *
Salsify, roots | 8
Salsify, tops | 8
* * * * *
Soybean, seed | 8
Soybean, vegetable, succulent | 8
* * * * *
Squash, summer | 8
Squash, winter | 8
* * * * *
Turnip, greens | 8
Turnip, roots | 8
* * * * *

* * * * *

4. Section 180.121 is amended as follows:

a. By removing the entry for “Corn” from the table in paragraph (a).

b. By removing the entry for “Vetch” from the table in paragraph (e).

c. By adding alphabetically the following entries to the tables in paragraphs (a) and (e) to read as follows:

§ 180.121 Methyl parathion; tolerances for residues.

(a) * * *

Commodity | Parts per million | Expiration/Revocation Date
* * * * *
Corn, field, grain | 1.0 | None
Corn, pop, grain | 1.0 | None
* * * * *
Corn, sweet, kernel plus cob with husks removed | 1.0 | None
* * * * *

* * * * *

(e) * * *

Commodity | Parts per million
* * * * *
Vetch, forage | 1
Vetch, hay | 1

5. Section 180.149 is amended by removing the entry for “Corn, grain, postharvest” and adding alphabetically the following entries to the table in paragraph (a)(2) to read as follows:

§ 180.149 Mineral oil; tolerances for residues.

(a) * * *

(2) * * *

Commodity | Parts per million
Corn, field, grain, postharvest | 200
Corn, pop, grain, postharvest | 200
* * * * *

* * * * *

6. Section 180.176 is amended by removing the entries for “Barley, milled feed fractions,” “Corn, forage,” “Corn, stover,” “Kidney,” “Liver,” “Oat, milled feed fractions,” and “Wheat, milled byproducts” and adding alphabetically the following entries to the table in paragraph (a) to read as follows:

§ 180.176 Mancozeb; tolerances for residues.

(a) * * *

Commodity | Parts per million
* * * * *
Barley, bran | 20
Barley, flour | 20
* * * * *
Barley, pearled barley | 20
* * * * *
Cattle, kidney | 0.5
Cattle, liver | 0.5
* * * * *
Corn, field, forage | 5
* * * * *
Corn, field, stover | 5
Corn, pop, stover | 5
Corn, sweet, forage | 5
* * * * *
Corn, sweet, stover | 5
* * * * *
Goat, kidney | 0.5
Goat, liver | 0.5
* * * * *
Hog, kidney | 0.5
Hog, liver | 0.5
Horse, kidney | 0.5
Horse, liver | 0.5
* * * * *
Oat, flour | 20
* * * * *
Oat, groats/rolled oats | 20
* * * * *
Poultry, kidney | 0.5
Poultry, liver | 0.5
* * * * *
Sheep, kidney | 0.5
Sheep, liver | 0.5
* * * * *
Wheat, bran | 20
Wheat, flour | 20
Wheat, germ | 20
* * * * *
Wheat, middlings | 20
Wheat, shorts | 20
* * * * *

* * * * *

7. Section 180.205 is amended by removing the entry for “Mint, hay,” and adding alphabetically the following entries to the table in paragraph (a) to read as follows:

§ 180.205 Paraquat; tolerances for residues.

(a) * * *

Commodity | Parts per million
* * * * *
Peppermint, tops | 0.5
* * * * *
Spearmint, tops | 0.5
* * * * *

* * * * *

8. Section 180.222 is amended by removing the entry for “Corn, grain” and adding alphabetically the following entries to the table in paragraph (a) to read as follows:

§ 180.222 Prometryn; tolerances for residues.

(a) * * *

Commodity | Parts per million
* * * * *
Corn, field, grain | 0.25
Corn, pop, grain | 0.25
* * * * *

* * * * *

9. Section 180.225 is amended by removing the entry for “Cabbage, Chinese” and adding alphabetically the following entries to the table in paragraph (a)(1) to read as follows:

§ 180.225 Phosphine; tolerances for residues.

(a) General. (1) * * *

Commodity | Parts per million
* * * * *
Cabbage, Chinese, bok choy | 0.01
Cabbage, Chinese, napa | 0.01
* * * * *

* * * * *

10. Section 180.235 is amended by revising paragraph (a)(2) to read as follows:

§ 180.235 Dichlorvos; tolerances for residues.

(a) General. * * *

(2) The tolerance of 0.1 part per million prescribed by 21 CFR 556.180 for negligible residues of 2,2-dichlorovinyl dimethyl phosphate in hog, fat; hog, meat; hog, meat byproducts; and hog, skin covers both its use as an anthelmintic in swine feed and as an insecticide applied directly to swine.

* * * * *

11. Section 180.253 is amended by removing the entries for “Alfalfa,” “Cabbage, chinese,” “Corn forage,” “Corn, grain (inc pop),” “Corn, stover,” and “Mint, hay,” and adding alphabetically the following entries to the table in paragraph (a) to read as follows:

§ 180.253 Methomyl; tolerances for residues.

(a) * * *

Commodity | Parts per million
Alfalfa, forage | 10
Alfalfa, hay | 10
* * * * *
Cabbage, Chinese, bok choy | 5
Cabbage, Chinese, napa | 5
* * * * *
Corn, field, forage | 10
Corn, field, grain | 0.1
Corn, field, stover | 10
Corn, pop, grain | 0.1
Corn, pop, stover | 10
* * * * *
Corn, sweet, forage | 10
Corn, sweet, stover | 10
* * * * *
Peppermint, tops | 2
* * * * *
Spearmint, tops | 2
* * * * *

* * * * *

12. Section 180.254 is amended by removing the entries for “Corn, forage (of which no more than 5 ppm are carbamates),” “Corn, grain (including popcorn) (of which no more than 0.1 ppm is carbamates),” and “Corn, stover (of which no more than 5 ppm are carbamates)” and adding alphabetically the following entries to the table in paragraph (a) to read as follows:

§ 180.254 Carbofuran; tolerances for residues.

(a) * * *

Commodity | Parts per million
* * * * *
Corn, field, forage (of which no more than 5 ppm are carbamates) | 25
Corn, field, grain (of which no more than 0.1 ppm is carbamates) | 0.2
Corn, field, stover (of which no more than 5 ppm are carbamates) | 25
Corn, pop, grain (of which no more than 0.1 ppm is carbamates) | 0.2
Corn, pop, stover (of which no more than 5 ppm are carbamates) | 25
Corn, sweet, forage (of which no more than 5 ppm are carbamates) | 25
* * * * *
Corn, sweet, stover (of which no more than 5 ppm is carbamates) | 25
* * * * *

* * * * *

13. Section 180.261 is amended by removing the entry for “Alfalfa” and adding alphabetically the following entries to the table in paragraph (a) to read as follows:

§ 180.261 N-(Mercaptomethyl)phthalimideS-(O,O-dimethylphosphorodithioate) and its oxygen analog; tolerances for residues.

(a) * * *

Commodity | Parts per million
Alfalfa, forage | 40
Alfalfa, hay | 40
* * * * *

* * * * *

14. Section 180.262 is amended by removing the entries for “Corn, forage,” “Corn, grain,” and “Corn, stover,” and adding alphabetically the following entries to the table in paragraph (a) to read as follows:

§ 180.262 Ethoprop; tolerances for residues.

(a) * * *

Commodity | Parts per million
* * * * *
Corn, field, forage | 0.02
Corn, field, grain | 0.02
Corn, field, stover | 0.02
Corn, pop, grain | 0.02
Corn, pop, stover | 0.02
Corn, sweet, forage | 0.02
* * * * *
Corn, sweet, stover | 0.02

* * * * *

15. Section 180.275 is amended by removing the entry for “Mint hay” and adding alphabetically the following entries to the table in paragraph (c) to read as follows:

§ 180.275 Chlorothalonil; tolerances for residues.

* * * * *

(c) * * *

Commodity | Parts per million
* * * * *
Peppermint, tops | 2
* * * * *
Spearmint, tops | 2

* * * * *

16. Section 180.284 is amended by removing the entry for “Grass (rangeland)” and adding alphabetically the following entries to the table in paragraph (a) to read as follows:

§ 180.284 Zinc phosphide; tolerances for residues.

(a) * * *

Commodity | Parts per million
* * * * *
Grass, rangeland, forage | 0.1
Grass, rangeland, hay | 0.1
* * * * *

* * * * *

17. Section 180.288 is amended by removing the entries for “Corn, grain” and “Corn, stover” and adding alphabetically the following entries to the table in paragraph (a) to read as follows:

§ 180.288 2-(Thiocyanomethylthio)benzothiazole; tolerances for residues.

(a) * * *

Commodity | Parts per million
* * * * *
Corn, field, grain | 0.1
Corn, field, stover | 0.1
Corn, pop, grain | 0.1
Corn, pop, stover | 0.1
* * * * *

18. Section 180.331 is amended by removing the entry for “Clover,” and adding alphabetically the following entries to the table in paragraph (a) to read as follows:

§ 180.331 4-(2,4-Dichlorophenoxy)butyric acid; tolerances for residues.

(a) * * *

Commodity | Parts per million
* * * * *
Clover, forage | 0.2
Clover, hay | 0.2
* * * * *

19. Section 180.377 is amended by removing the entry for “Wheat, milled byproducts” and adding alphabetically the following entries to the table in paragraph (b) to read as follows:

§ 180.377 Diflubenzuron; tolerances for residues.

* * * * *

(b) * * *

Commodity | Parts per million | Expiration/revocation date
* * * * *
Wheat, bran | 0.10 | 12/31/08
Wheat, flour | 0.10 | 12/31/08
Wheat, germ | 0.10 | 12/31/08
* * * * *
Wheat, middlings | 0.10 | 12/31/08
Wheat, shorts | 0.10 | 12/31/08

20. Section 180.379 is amended by removing the entries for “Corn, forage,” “Corn, grain,” and “Corn, stover” and adding alphabetically the following entries to the table in paragraph (a)(1) to read as follows:

§ 180.379 Cyano(3-phenoxyphenyl)methyl-4-chloro-α- (1-methylethyl) benzeneacetate; tolerances for residues.

(a) General. (1) * * *

Commodity | Parts per million
* * * * *
Corn, field, forage | 50.0
Corn, field, grain | 0.02
Corn, field, stover | 50.0
Corn, pop, grain | 0.02
Corn, pop, stover | 50.0
Corn, sweet, forage | 50.0
* * * * *
Corn, sweet, stover | 50.0
* * * * *

* * * * *

21. Section 180.408 is amended as follows:

a. By removing the entries for “Potato, processed (including potato, chips),” and “Tomato, processed” from the table in paragraph (a).

b. By removing the entries for “Barley, milling fractions” and “Oat milling fractions,” and “Wheat, milling fractions” from the table in paragraph (d).

c. By adding alphabetically the following entries to the tables in paragraphs (a) and (d) to read as follows:

§ 180.408 Metalaxyl; tolerances for residues.

(a) * * *

Commodity | Parts per million
* * * * *
Potato, chips | 4.0
Potato, granules, flakes | 4.0
* * * * *
Potato, wet peel | 4.0
* * * * *
Tomato, paste | 3.0
Tomato, puree | 3.0
* * * * *

* * * * *

(d) * * *

Commodity | Parts per million
Barley, bran | 1.0
Barley, flour | 1.0
* * * * *
Barley, pearled barley | 1.0
* * * * *
Oat, flour | 1.0
* * * * *
Oat, groats, rolled oats | 1.0
* * * * *
Wheat, bran | 1.0
* * * * *
Wheat, flour | 1.0
* * * * *
Wheat, germ | 1.0
* * * * *
Wheat, middlings | 1.0
Wheat, shorts | 1.0
* * * * *

* * * * *

22. Section 180.411 is amended by removing the entry for “Cotton, oil” and adding alphabetically the following entry to the table in paragraph (a) to read as follows:

§ 180.411 Fluazifop-P-butyl; tolerances for residues.

(a) General. * * *

Commodity | Parts per million
* * * * *
Cotton, refined oil | 0.2
* * * * *

23. Section 180.419 is amended by revising the table in paragraph(a)(2) to read as follows:

§ 180.419 Chlorpyrifos-methyl; tolerances for residues.

(a) General. * * *

(2) * * *

Commodity | Parts per million
Barley, bran | 90
Barley, pearled barley | 90
Rice, bran | 30
Rice, hulls | 30
Rice, polished rice | 30
Sorghum, grain, bran | 90
Wheat, bran | 30
Wheat, germ | 30
Wheat, middlings | 30
Wheat, shorts | 30

* * * * *

24. Section 180.431 is amended by removing the entries for “Barley, milled fractions (except flour),” “Grass,forage and hay,” “Mint, hay,” and “Wheat, milled fractions (except flour),” and adding alphabetically the following entries to the table in paragraph (a) to read as follows:

§ 180.431 Clopyralid; tolerances for residues.

(a) * * *

Commodity | Parts per million
* * * * *
Barley, bran | 12
* * * * *
Barley, pearled barley | 12
* * * * *
Grass, forage | 500.0
Grass, hay | 500.0
* * * * *
Peppermint, tops | 3.0
* * * * *
Spearmint, tops | 3.0
* * * * *
Wheat, bran | 12
* * * * *
Wheat, germ | 12
* * * * *
Wheat, middling | 12
Wheat, shorts | 12
* * * * *

* * * * *

25. Section 180.435 is amended by removing the entry for “Tomato, concentrated products” and adding alphabetically the following entries to the table in paragraph (a)(1) to read as follows:

§ 180.435 Deltamethrin; tolerances for residues.

(a) General. (1) * * *

Commodity | Parts per million
* * * * *
Tomato, paste | 1.0
Tomato, puree | 1.0
* * * * *

* * * * *

26. Section 180.436 is amended by removing the entry for “Tomato, pomace” and adding alphabetically the following entries to the table in paragraph (a)(1) to read as follows:

§ 180.436 Cyfluthrin and the isomer beta-cyfluthrin; tolerances for residues.

(a) General. (1) * * *

Commodity | Parts per million
* * * * *
Tomato, dry pomace | 5.0
Tomato, wet pomace | 5.0
* * * * *

* * * * *

27. Section 180.440 is amended by removing the entries for “Corn, field, fodder and forage, pop and sweet” and “Corn, field, grain and pop” and adding alphabetically the following entries to the table in paragraph (a) to read as follows:

§ 180.440 Tefluthrin; tolerances for residues.

(a) * * *

Commodity | Parts per million
Corn, field, forage | 0.06
Corn, field, grain | 0.06
Corn, field, stover | 0.06
Corn, pop, grain | 0.06
Corn, pop, stover | 0.06
Corn, sweet, forage | 0.06
* * * * *
Corn, sweet, stover | 0.06
* * * * *

* * * * *

28. Section 180.442 is amended by removing the entries for “Corn, forage,” “Corn, grain (field, seed, and pop),” and “Corn, stover” and adding alphabetically the following entries to the table in paragraph (a)(1) to read as follows:

§ 180.442 Bifenthrin; tolerances for residues.

(a) General. (1) * * *

Commodity | Parts per million
* * * * *
Corn, field, forage | 3.0
Corn, field, grain | 0.05
Corn, field, stover | 5.0
Corn, pop, grain | 0.05
Corn, pop, stover | 5.0
Corn, sweet, forage | 3.0
* * * * *
Corn, sweet, stover | 5.0
* * * * *

* * * * *

29. Section 180.443 is amended by removing the entry for “Grape pomace (wet and dry)” and adding alphabetically the following entries to the table in paragraph (a) to read as follows:

§ 180.443 Myclobutanil; tolerances for residues.

(a) * * *

Commodity | Parts per million
* * * * *
Grape, dried pomace | 10.0
* * * * *
Grape, wet pomace | 10.0
* * * * *

* * * * *

30. Section 180.446 is amended by removing the entry for “Apple, pomace” and adding alphabetically the following entries to the table in paragraph (a)(1) to read as follows:

§ 180.446 Clofentezine; tolerances for residues.

(a) General. (1) * * *

Commodity | Parts per million
* * * * *
Apple, dry pomace | 3.0
Apple, wet pomace | 3.0
* * * * *

* * * * *

31. Section 180.449 is amended by removing the entry for “Mint” and adding alphabetically the following entries to the table in paragraph (a) to read as follows:

§ 180.449 Avermectin B1 and its delta-8,9-isomer; tolerances for residues.

(a) * * *

Commodity | Parts per million
* * * * *
Peppermint, tops | 0.010
* * * * *
Spearmint, tops | 0.010
* * * * *

* * * * *

32. Section 180.452 is amended by removing the entries for “Corn, forage,” “Corn, grain,” and “Corn, stover” and adding alphabetically the following entries to the table in paragraph (a) to read as follows:

§ 180.452 Primisulfuron-methyl; tolerances for residues.

(a) * * *

Commodity | Parts per million
* * * * *
Corn, field, forage | 0.10
Corn, field, grain | 0.02
Corn, field, stover | 0.10
Corn, pop, grain | 0.02
Corn, pop, stover | 0.10
Corn, sweet, forage | 0.10
* * * * *
Corn, sweet, stover | 0.10
* * * * *

* * * * *

33. Section 180.454 is amended by removing the entries for “Corn, grain” and “Corn, stover” and adding alphabetically the following entries to the table to read as follows:

§ 180.454 Nicosulfuron, [3-pyridinecarboxamide, 2-((((4,6-dimethoxypyrimidin-2-yl)aminocarbonyl)aminosulfonyl))-N,N-dimethyl]; tolerances for residues.

Commodity | Parts per million
* * * * *
Corn, field, grain | 0.1
Corn, field, stover | 0.1
* * * * *
Corn, pop, grain | 0.1
Corn, pop, stover | 0.1
* * * * *

* * * * *

34. Section 180.462 is amended by removing the entries for “Corn, grain” and “Corn, stover” and adding alphabetically the following entries to the table in paragraph (a) to read as follows:

§ 180.462 Pyridate; tolerances for residues.

(a) * * *

Commodity | Parts per million
* * * * *
Corn, field, grain | 0.03
Corn, field, stover | 0.03
Corn, pop, grain | 0.03
Corn, pop, stover | 0.03
* * * * *

* * * * *

35. Section 180.472 is amended by removing the entries for “Grape, pomace (wet or dried),” “Lettuce, head and leaf,” and “Tomato, pomace (wet or dried)” and adding alphabetically the following entries to the table in paragraph (a) to read as follows:

§ 180.472 Imidacloprid; tolerances for residues.

(a) * * *

Commodity | Parts per million
* * * * *
Grape, dried pomace | 5.0
* * * * *
Grape, wet pomace | 5.0
* * * * *
Lettuce, head | 3.5
Lettuce, leaf | 3.5
* * * * *
Tomato, dry pomace | 4.0
* * * * *
Tomato, wet pomace | 4.0
* * * * *

* * * * *

36. Section 180.476 is amended by removing the entries for “Apple, pomace” and “Grape pomace” and adding alphabetically the following entries to the table in paragraph (a)(1) to read as follows:

§ 180.476 Triflumizole; tolerances for residues.

(a) General. (1) * * *

Commodity | Parts per million
* * * * *
Apple, dry pomace | 2.0
Apple, wet pomace | 2.0
* * * * *
Grape, dried pomace | 15.0
* * * * *
Grape, wet pomace | 15.0
* * * * *

* * * * *

37. Section 180.482 is amended as follows:

a. By removing the entries for “Apple, pomace” and “Tree nut crop group including pistachio” from the table in paragraph (a)(1).

b. By removing the entries for “Fat of cattle, goat, hog, horse, and sheep,” “Meat byproducts of cattle, goat, hog, horse and sheep,” and “Meat of cattle, goat, hog, horse and sheep” from the table in paragraph (a)(2).

c. By adding alphabetically the following entries to the tables in paragraphs (a)(1) and (a)(2) to read as follows:

§ 180.482 Tebufenozide; tolerances for residues.

(a) General. (1) * * *

Commodity | Parts per million
* * * * *
Apple, dry pomace | 3.0
Apple, wet pomace | 3.0
* * * * *
Nut, tree, group 14 | 0.1
* * * * *
Pistachio | 0.1
* * * * *

(2) * * *

Commodity | Parts per million
Cattle, fat | 0.1
Cattle, meat | 0.08
Cattle, meat byproducts | 0.08
Goat, fat | 0.1
Goat, meat | 0.08
Goat, meat byproducts | 0.08
Hog, fat | 0.1
Hog, meat | 0.08
Hog, meat byproducts | 0.08
Horse, fat | 0.1
Horse, meat | 0.08
Horse, meat byproducts | 0.08
* * * * *
Sheep, fat | 0.1
Sheep, meat | 0.08
Sheep, meat byproducts | 0.08

* * * * *

38. Section 180.495 is amended by removing the entry for “Apple pomace” and by adding alphabetically the following entries to the table in paragraph (a) to read as follows:

§ 180.495 Spinosad; tolerances for residues.

(a) * * *

Commodity | Parts per million
* * * * *
Apple, dry pomace | 0.5
Apple, wet pomace | 0.5
* * * * *

* * * * *

39. Section 180.515 is amended by removing the entries for “Fat (cattle, goat, horse, and sheep),” “Meat, (cattle, goat, horse, and sheep),” and “Meat, byproducts, cattle, goat, horse, and sheep” and by adding alphabetically the following entries to the table in paragraph (a) to read as follows:

§ 180.515 Carfentrazone-ethyl; tolerances for residues.

(a) * * *

Commodity | Parts per million
* * * * *
Cattle, fat | 0.10
Cattle, meat | 0.10
Cattle, meat byproducts | 0.10
* * * * *
Goat, fat | 0.10
Goat, meat | 0.10
Goat, meat byproducts | 0.10
* * * * *
Horse, fat | 0.10
Horse, meat | 0.10
Horse, meat byproducts | 0.10
* * * * *
Sheep, fat | 0.10
Sheep, meat | 0.10
Sheep, meat byproducts | 0.10
* * * * *

* * * * *

40. Section 180.517 is amended by removing the entries for “Fat of cattle, goat, horse and sheep,” “Liver of cattle, goat, horse and sheep,” “Meat Byproducts, except liver of cattle, goat, horse, and sheep,” and “Meat of cattle, goat, horse and sheep” and adding alphabetically the following entries to the table in paragraph (a) to read as follows:

§ 180.517 Fipronil; tolerances for residues.

(a) * * *

Commodity | Parts per million
Cattle, fat | 0.40
Cattle, liver | 0.10
Cattle, meat | 0.04
Cattle, meat byproducts, except liver | 0.04
* * * * *
Goat, fat | 0.40
Goat, liver | 0.10
Goat, meat | 0.04
Goat, meat byproducts, except liver | 0.04
* * * * *
Horse, fat | 0.40
Horse, liver | 0.10
Horse, meat | 0.04
Horse, meat byproducts, except liver | 0.04
* * * * *
Sheep, fat | 0.40
Sheep, liver | 0.10
Sheep, meat | 0.04
Sheep, meat byproducts, except liver | 0.04

* * * * *

41. Section 180.554 is amended by removing the entry for “Apple pomace” and by adding alphabetically the following entries to the table in paragraph (a)(1) to read as follows:

§ 180.554 Kresoxim-methyl; tolerances for residues.

(a) General. (1) * * *

Commodity | Parts per million
Apple, dry pomace | 1.0
Apple, wet pomace | 1.0
* * * * *

* * * * *

42. Section 180.615 is amended by removing the entry for “Wheat, milled byproducts” and adding alphabetically the following entries to the table in paragraph (d) to read as follows:

§ 180.615 Amicarbazone; tolerances for residues.

* * * * *

(d) * * *

Commodity | Parts per million
* * * * *
Wheat, bran | 0.15
Wheat, flour | 0.15
* * * * *
Wheat, germ | 0.15
* * * * *
Wheat, middlings, | 0.15
Wheat, shorts | 0.15
* * * * *

[FR Doc. E9-12566 Filed 5-28-09; 8:45 am]

BILLING CODE 6560-50-S